DEPARTMENT OF TRANSPORTATION

Federal Highway Administration

Notice of Final Federal Agency Actions on Proposed Highway in Texas

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to various proposed highway projects in the State of Texas. Those actions grant licenses, permits and approvals for the projects.

DATES: By this notice, the FHWA is advising the public of final agency actions subject to 23 U.S.C. 139(l)(1). A claim seeking judicial review of the Federal agency actions on any of the listed highway projects will be barred unless the claim is filed on or before November 30, 2009. If the Federal law that authorizes judicial review of a claim provides a time period of less than 180 days for filing such claim, then that shorter time period still applies.

FOR FURTHER INFORMATION CONTACT: Salvador Deocampo, District Engineer, Texas Division, FHWA, J.J. Pickle Federal Building 300 East 8th Street, Room 826, Austin, Texas 78701; phone number 512-536-5950; e-mail: salvador.deocampo@fhwa.dot.gov. FHWA Texas Division normal business hours are 8 a.m. to 5 p.m. (central time) Monday through Friday. You may also contact Ms. Dianna Noble, P.E., Director Environmental Affairs Division, Texas Department of Transportation, 118 E. Riverside, Austin, Texas, 78704; phone number 512-416-2734; e-mail: dnoble@dot.state.tx.us. Texas Department of Transportation normal business hours are 8 a.m. to 5 p.m. (central time) Monday through Friday.

SUPPLEMENTARY INFORMATION: Notice is hereby given that the FHWA and other Federal agencies have taken final agency actions by issuing licenses, permits, and approvals for the highway projects in the State of Texas that are listed below. The actions by the Federal agencies on the project, and the laws under which such actions were taken, are described in the documented Environmental Assessments (EAs), issued in connection with the projects, and in other documents project records. The EAs, Findings of No Significant Impacts (FONSIs), and other project records for the listed projects are available by contacting the FHWA or the Texas Department of Transportation at the addresses provided above and can be viewed and downloaded from each project's Web site found below.

This notice applies to all Federal agency decisions on the listed project as of the issuance date of this notice and all laws under which such actions were taken, including but not limited to:

I. General: National Environmental Policy Act (NEPA) (42 U.S.C. 4321-4351); Federal-Aid Highway Act (FAHA) (23 U.S.C. Section 109), Federal Aviation Administration . 49 USC Section 47107(a)(16).

II. Air: Clean Air Act (CAA), [42 U.S.C. 7401-7671(q)].

III. Land: Section 4(f) of the Department of Transportation Act of 1966 (49 U.S.C. Section 303).

IV. Wildlife: Endangered Species Act (ESA) of 1973 (16 U.S.C. Sections 1531-1544 and Section 1536), Migratory Bird Treaty Act (MBTA) (16 U.S.C. Sections 703-712).

V. Historic and Cultural Resources: Section 106 of the National Historic Preservation Act of 1966, as amended [16 U.S.C. Section 470 (f) et seq.]; Archeological Resources Protection Act of 1977 (ARPA) [16 U.S.C. Sections 470(aa)-11]; Archeological and Historic Preservation Act (AHPA) [16 U.S.C. Sections 469-469(c)].

VI. Social and Economic: Civil Rights Act of 1964 (Civil Rights) [42 U.S.C. Section 2000(d)-2000(d)(1)].

VII. Wetlands and Water Resources: Clean Water Act, 33 U.S.C. Sections 1251-1377 (Section 404, Section 401, Section 402, Section 319); Rivers and Harbors Act of 1899 (RHA), 33 U.S.C. Sections 401-406.

VIII. Executive Orders: E.O. 11990 Protection of Wetlands; E.O. 11988 Floodplain Management; E.O. 12898, Federal Actions to Address Environmental Justice in Minority Populations and Low Income Populations; E.O. 11593 Protection and Enhancement of Cultural Resources; E.O. 13175 Consultation and Coordination with Indian Tribal Government; E.O. 11514 Protection and Enhancement of Environmental Quality.

The projects subject to this notice are:

1. Project Location: Interstate Highway (IH) 820 from IH 35W to State Highway (SH) SH 121/SH 183/SH 26 in the cities of Fort Worth, Haltom City and North Richland Hills in Tarrant County, Texas. Project Reference Number: TxDOT CSJ: 0008-14-058, 0008-14-059 and 0014-16-194.

Project Web site: http://www.txdot.gov/project_information/projects/fort_worth/north_tarrant_express/default.htm

Project Type: The project will include total reconstruction of the facility from a 4 lane freeway with discontinuous frontage roads and auxiliary lanes to a 10 lane (6 general purpose (free) lanes and 4 managed (toll) lanes) facility with discontinuous frontage roads and auxiliary lanes. Project Length: Approximately 6 miles. General Purpose: The project will improve mobility throughout the corridor to relieve existing traffic congestion, improve local traffic circulation and accommodate future travel demand. Final agency actions have been taken under: NEPA, FAHA, CAA, ESA, MBTA, Section 4(f), Civil Rights Act, Section 106, ARPA, AHPA, Section 404, Section 401, E.O.'s 11990, 11988, 12898, 11593, 13175 and 11514. NEPA document: EA with a FONSI issued December 08, 2008.

2. Project Location: DFW Connector—SH 121 from Business 114L (Northwest Highway) to International Parkway AND SH 121 from SH 360 to Farm-to-Market (FM) 2499 primarily within the cities of Grapevine and Southlake in Tarrant County and Dallas County, Texas. Project Reference Number: TxDOT CSJ: 0353-03-059, 0353-03-079, 0364-01-072, 0364-01-112, 0364-01-113 and 0364-01-115.

Project Web site: http://www.txdot.gov/project_information/projects/fort_worth/dfw_connector/default.htm

Project Type: The project will include six main lanes eastbound and seven main lanes westbound and the addition of two managed express lanes in each direction along approximately 4.5 miles of the corridor with improvements to SH 114 and SH 121 to tie to existing lanes on each end. Project Length: Approximately 14.4 miles. General Purpose: The project will improve mobility throughout the corridor to relieve existing traffic congestion, improve local and regional traffic circulation and accommodate future travel demand, improve access and safety and improve operational deficiencies. Final agency actions taken under: NEPA, FAHA, FAA, CAA, ESA, MBTA, Civil Rights Act,, Section 106, ARPA, AHPA, Section 404, Section 401, E.O.'s 11990, 11988, 12898, 11593, 13175 and 11514. NEPA document: EA with a FONSI issued April 23, 2009.

(Catalog of Federal Domestic Assistance Program Number 20.205, Highway Planning and Construction. The regulations implementing Executive Order 12372 regarding intergovernmental consultation on Federal programs and activities apply to this program.)

Authority: 23 USC 139(l)(1)

Issued on: May 27, 2009.
Salvador Deocampo,
District Engineer,
Austin Texas.

[FR Doc. E9-12745 Filed 6-1-09; 8:45 am]

BILLING CODE 4910-RY-P